DEPARTMENT OF JUSTICE

Antitrust Division

Notice Pursuant to the National Cooperative Research and Production Act of 1993—ODVA, Inc.

Notice is hereby given that, on January 31, 2019, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Hirose Electric Co., Ltd., Tokyo, JAPAN; Diatrend Corporation, Osaka, JAPAN; SAMSON AG, Frankfurt am Main, GERMANY; Analytical Technology, Inc., Collegeville, PA; Columbus McKinnon Corporation, Getzville, NY; CONTEC CO., LTD., Osaka, JAPAN; Dimetix AG, Herisau, SWITZERLAND; Dynapar Corporation, Gurnee, IL; Gefran S.P.A., Provaglio d'Iseo Brescia, ITALY; Honeywell Process Solutions, Houston, TX; Industrial Network Controls, LLC, Coopersburg, PA; INGENIA-CAT, SL, Barcelona, SPAIN; IVEK Corporation, North Springfield, VT; Leonton Technologies Co. Ltd., New Taipei City, TAIWAN; MKP Co., Ltd., Gyeonggi-do, REPUBLIC OF KOREA; NetTechnix E&P GmbH, Feldkirch, AUSTRIA; Reno Subsystems, Sparks, NV; Rinstrum Pty Ltd., Brisbane, AUSTRALIA; Tecnetics Industries Inc., St. Paul, MN; The Controls Group, Inc. dba Logix, Kirkland, WA; and Volktek Corporation, New Taipei City, TAIWAN, have been added as parties to this venture.

Also, Optoelectronics, Saitama, JAPAN; UNIPULSE Corporation, Tokyo, JAPAN; BF ENTRON Ltd. (British Federal), Kingswinford, UNITED KINGDOM; Criterion NDT, Auburn, WA; Digital Electronics Corporation (INDE), Osaka, JAPAN; EN Technologies Inc., Gyeonggi-do, REPUBLIC OF KOREA; General Electric Energy Division, Pittsburgh, PA; MYNAH Technologies, Chesterfield, MO; PMV Automation AB, Solna, SWEDEN; SKF USA Inc., Landsdale, PA; and Wittenstein SE, Igersheim, GERMANY, have withdrawn as parties to this venture.

In addition, Lumberg Automation has changed its name to Belden Deutschland GmbH, Schalksmühle, GERMANY.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on April 23, 2018. A notice was published in the Federal Register pursuant to Section 6(b) of the Act on May 14, 2018 (83 FR 22288).

Suzanne Morris,
Chief, Premerger and Division Statistics Unit, Antitrust Division.

[FR Doc. 2019-03515 Filed 2-27-19; 8:45 am]

BILLING CODE 4410-11-P